NUCLEAR REGULATORY COMMISSION

[Docket No. 50-255-LR, ASLBP No. 05-842-03-LR]

In the Matter of Nuclear Management Company, LLC; Establishment of Atomic Safety and Licensing Board

Pursuant to delegation by the Commission dated December 29, 1972, published in the Federal Register, 37 FR 28710 (1972), and the Commission's regulations, see 10 CFR 2.104, 2.300, 2.303, 2.309, 2.311, 2.318, and 2.321, notice is hereby given that an Atomic Safety and Licensing Board is being established to preside over the following proceeding:

Nuclear Management Company, LLC (Palisades Nuclear Plant)

This proceeding concerns an August 8, 2005 request for hearing submitted jointly by the Nuclear Information and Resource Service, West Michigan Environmental Action Council, Don't Waste Michigan, the Green Party of Van Buren County, the Michigan Land Trustees, and a number of individuals in response to a June 2, 2005 notice of opportunity for hearing, 70 Fed. Reg. 33,533 (June 8, 2005), regarding a March 22, 2005, application, as supplemented on May 5, 2005, from Nuclear Management Company, LLC, (NMC) for renewal of the operating license for its Palisades Nuclear Plant. In its application, NMC requests that the operating license for its Palisades facility be extended for an additional twenty years beyond the period specified in the current license, which expires on March 24, 2011.

The Board is comprised of the following administrative judges:

Ann Marshall Young, Chair, U.S. Nuclear Regulatory Commission, Washington, DC 20555-0001.

Dr. Anthony J. Baratta, U.S. Nuclear Regulatory Commission, Washington, DC 20555-0001.

Dr. Nicholas G. Trikouros, U.S. Nuclear Regulatory Commission, Washington, DC 20555-0001.

All correspondence, documents, and other materials shall be filed with the administrative judges in accordance with 10 CFR 2.302.

Issued at Rockville, Maryland, this 25th day of August, 2005.
G. Paul Bollwerk, III,
Chief Administrative Judge, Atomic Safety and Licensing Board Panel.

[FR Doc. E5-4784 Filed 8-31-05; 8:45 am]

BILLING CODE 7590-01-P